DEPARTMENT OF ENERGY

Federal Energy Regulatory Commission

Combined Notice of Filings #1

Take notice that the Commission received the following exempt wholesale generator filings:

Docket Numbers: EG20-73-000.

Applicants: Northern Colorado Wind Energy Center, LLC.

Description: Notice of Self-Certification of Exempt Wholesale Generator Status of Northern Colorado Wind Energy Center, LLC.

Filed Date: 2/3/20.

Accession Number: 20200203-5252.

Comments Due: 5 p.m. ET 2/24/20.

Docket Numbers: EG20-74-000.

Applicants: Blythe Solar III, LLC.

Description: Notice of Self-Certification of Exempt Wholesale Generator Status of Blythe Solar III, LLC.

Filed Date: 2/3/20.

Accession Number: 20200203-5253.

Comments Due: 5 p.m. ET 2/24/20.

Docket Numbers: EG20-75-000.

Applicants: Blythe Solar IV, LLC.

Description: Notice of Self-Certification of Exempt Wholesale Generator Status of Blythe Solar IV, LLC.

Filed Date: 2/3/20.

Accession Number: 20200203-5254.

Comments Due: 5 p.m. ET 2/24/20.

Docket Numbers: EG20-76-000.

Applicants: ENGIE Long Draw Solar LLC.

Description: Notice of Self-Certification of Exempt Wholesale Generator Status of ENGIE Long Draw Solar LLC.

Filed Date: 2/4/20.

Accession Number: 20200204-5147.

Comments Due: 5 p.m. ET 2/25/20.

Take notice that the Commission received the following electric rate filings:

Docket Numbers: ER11-1858-008.

Applicants: NorthWestern Corporation.

Description: Supplement to Triennial Market Power Analysis for the Northwest Region of NorthWestern Corporation.

Filed Date: 2/3/20.

Accession Number: 20200203-5013.

Comments Due: 5 p.m. ET 2/24/20.

Docket Numbers: ER15-704-015.

Applicants: Pacific Gas and Electric Company.

Description: Compliance filing: Corrections to Compliance filing CCSF WDT SA and IA (SA 275) to be effective 7/1/2015.

Filed Date: 2/4/20.

Accession Number: 20200204-5094.

Comments Due: 5 p.m. ET 2/25/20.

Docket Numbers: ER15-704-016.

Applicants: Pacific Gas and Electric Company.

Description: Compliance filing: Corrections to Compliance filing CCSF WDT SA and IA (SA 275) to be effective 7/23/2015.

Filed Date: 2/4/20.

Accession Number: 20200204-5096.

Comments Due: 5 p.m. ET 2/25/20.

Docket Numbers: ER19-1730-002.

Applicants: Wind Park Bear Creek, L.L.C.

Description: Compliance filing: Compliance Filing for Docket ER19-1730 to be effective 6/29/2019.

Filed Date: 2/5/20.

Accession Number: 20200205-5095.

Comments Due: 5 p.m. ET 2/26/20.

Docket Numbers: ER19-1886-002.

Applicants: Stony Creek Wind Farm, LLC.

Description: Compliance filing: Compliance Filing for Docket ER19-1886 to be effective 7/17/2019.

Filed Date: 2/5/20.

Accession Number: 20200205-5084.

Comments Due: 5 p.m. ET 2/26/20.

Docket Numbers: ER20-457-001.

Applicants: PJM Interconnection, L.L.C.

Description: Tariff Amendment: Response to Commission's Deficiency Letter dated January 16, 2020 to be effective 1/10/2020.

Filed Date: 2/5/20.

Accession Number: 20200205-5096.

Comments Due: 5 p.m. ET 2/26/20.

Docket Numbers: ER20-647-001.

Applicants: Midcontinent Independent System Operator, Inc.

Description: Tariff Amendment: 2020-02-05 Amendment to MISO PJM JOA Constraint Relaxation Filing to be effective 2/18/2020.

Filed Date: 2/5/20.

Accession Number: 20200205-5114.

Comments Due: 5 p.m. ET 2/26/20.

Docket Numbers: ER20-648-001.

Applicants: PJM Interconnection, L.L.C.

Description: Tariff Amendment: Amendment to Dec 19, 2019 Filing of Rev to MISO-PJM JOA re Constraint Relaxation to be effective 2/18/2020.

Filed Date: 2/5/20.

Accession Number: 20200205-5099.

Comments Due: 5 p.m. ET 2/26/20.

Docket Numbers: ER20-780-001.

Applicants: Sooner Wind, LLC.

Description: Tariff Amendment: Sooner Wind, LLC Amendment to the Application for Market-Based Rates to be effective 3/14/2020.

Filed Date: 2/4/20.

Accession Number: 20200204-5115.

Comments Due: 5 p.m. ET 2/25/20.

Docket Numbers: ER20-955-000.

Applicants: PJM Interconnection, L.L.C.

Description: § 205(d) Rate Filing: Rev to Tariff and OA re Parameter Limited Schedules to be effective 4/6/2020.

Filed Date: 2/4/20.

Accession Number: 20200204-5104.

Comments Due: 5 p.m. ET 2/25/20.

Docket Numbers: ER20-956-000.

Applicants: Thunderhead Wind Energy LLC.

Description: Baseline eTariff Filing: Application for Market-Based Rate Authorization to be effective 4/6/2020.

Filed Date: 2/5/20.

Accession Number: 20200205-5074.

Comments Due: 5 p.m. ET 2/26/20.

Docket Numbers: ER20-956-001.

Applicants: Thunderhead Wind Energy LLC.

Description: Tariff Amendment: Supplement to Application for Market-Based Rate Authorization to be effective 4/6/2020.

Filed Date: 2/5/20.

Accession Number: 20200205-5079.

Comments Due: 5 p.m. ET 2/26/20.

Docket Numbers: ER20-957-000.

Applicants: NorthWestern Corporation.

Description: Tariff Cancellation: Cancellation of Multiple Service Agreements for Network Integration Transmission to be effective 3/1/2020.

Filed Date: 2/5/20.

Accession Number: 20200205-5098.

Comments Due: 5 p.m. ET 2/26/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 5, 2020.
Nathaniel J. Davis, Sr.,
Deputy Secretary.

[FR Doc. 2020-02821 Filed 2-11-20; 8:45 am]

BILLING CODE 6717-01-P